DEPARTMENT OF HEALTH AND HUMAN SERVICES

Centers for Disease Control and Prevention

Advisory Committee on Childhood Lead Poisoning Prevention

In accordance with section 10(a)(2) of the Federal Advisory Committee Act (Pub. L. 92-463), the National Center for Environmental Health (NCEH) of the Centers for Disease Control and Prevention (CDC) announces the following committee meeting.

Name: Advisory Committee on Childhood Lead Poisoning Prevention (ACCLPP).

Times and Dates: 8:30 a.m.-5 p.m., March 9, 2004. 8:30 a.m.-12:30 p.m., March 10, 2004.

Place: Admiral Fell Inn, 888 South Broadway, Baltimore, Maryland 21231. Telephone: 410/522-7377 or toll free 866/583-4162.

Status: Open to the public, limited only by the space available. The meeting room accommodates approximately 75 people.

Purpose: The Committee shall provide advice and guidance to the Secretary; the Assistant Secretary for Health; and the Director, CDC, regarding new scientific knowledge and technological developments and their practical implications for childhood lead poisoning prevention efforts. The Committee shall also review and report regularly on childhood lead poisoning prevention practices and recommend improvements in national childhood lead poisoning prevention efforts.

Matters To Be Discussed: Agenda items include: Update on the Adverse Health Effects of Blood Lead Levels <10mg/dl workgroup report, presentation and discussion of lead exposure during pregnancy, update of strategic planning process by state and local childhood lead poisoning prevention programs, High Intensity Screening as a component of a local plan to eliminate lead poisoning and an update on research and program evaluation activities ongoing in the Lead Poisoning Prevention Branch. Agenda items are subject to change as priorities dictate. Opportunities will be provided during the meeting for oral comments. Depending on the time available and the number of requests, it may be necessary to limit the time of each presenter.

Contact Person for More Information: Crystal M. Gresham, Program Analyst, Lead Poisoning Prevention Branch, Division of Emergency and Environmental Health Services, NCEH, CDC, 4770 Buford Hwy, NE., M/S F-40, Atlanta, Georgia 30341, telephone 770/488-7490, fax 770/488-3635.

The Director, Management Analysis and Services Office, has been delegated the authority to sign Federal Register notices pertaining to announcements of meetings and other committee management activities for both CDC and the Agency for Toxic Substances and Disease Registry.

Dated: December 24, 2003.
Ronald Argle,
Director, Management Analysis and Services Office, Centers for Disease Control and Prevention.

[FR Doc. 04-42 Filed 1-2-04; 8:45 am]

BILLING CODE 4163-18-P